DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Economic Surveys for U.S. Commercial Fisheries.

Form Number(s): None.

OMB Approval Number: 0648-0369.

Type of Request: Regular submission.

Burden Hours: 7,000.

Number of Respondents: 6,000.

Average Hours Per Response: Catcher or for-hire vessel operating cost, annual cost, revenue, effort, employment, ownership, and limited demographic data, 1 hour and 30 minutes; catcher or for-hire vessel operating cost data, 25 minutes; catcher or for-hire vessel annual expenditure and demographic data, 1 hour; West Coast or Alaska processor, including catcher/processor vessels, mothership vessels, floating processing plants, and onshore plants, 8 hours; East Coast or Gulf processor, 1 hour and 30 minutes.

Needs and Uses: This proposed collection of economic data for U.S. commercial fisheries will be used to address statutory and regulatory mandates to determine the quantity and distribution of net benefits derived from living marine resources, as well as predict the economic impacts from proposed management options on commercial harvesters, shoreside industries, and fishing communities. In particular, the data will be used to meet the requirements of the Magnuson-Stevens Fishery Conservation and Management Act, the National Environmental Policy Act, the Regulatory Flexibility Act, Executive Order 12866 as well as a variety of state statutes.

Affected Public: Business or other for-profit organizations.

Frequency: Annually and on occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: April 11, 2006.
Gwellnar Banks,
Management Analyst, Office of the Chief Information Officer.

[FR Doc. E6-5625 Filed 4-14-06; 8:45 am]

BILLING CODE 3510-22-P